DEPARTMENT OF LABOR

Employment and Training Administration

Comment Request for Information Collection for Equal Employment Opportunity in Apprenticeship Programs, Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)] (PRA). The PRA helps ensure that respondents can provide requested data in the desired format with minimal reporting burden (time and financial resources), collection instruments are clearly understood and the impact of collection requirements on respondents can be properly assessed.

Currently, ETA is soliciting comments concerning the information collection request (ICR) to collect data about title 29 CFR 30, Equal Employment Opportunity in Apprenticeship Programs, Complaint Form—Equal Employment Opportunity in Apprenticeship Programs, ETA—9030, which expires on May 31, 2016.

Interested parties are encouraged to provide comments to the contact shown in the ADDRESSES section. Comments must be written to receive consideration, and they will be summarized and included in the request for OMB approval of the final ICR. In order to help ensure appropriate consideration, comments should mention OMB Control Number 1205-0224.

DATES: Written comments must be submitted to the office listed in the addresses section below on or before February 16, 2016.

ADDRESSES: Submit written comments to Greg Wilson, Office of Apprenticeship, Room C-5317, Employment and Training Administration, U.S. Department of Labor, 200 Constitution Avenue NW., Washington, DC 20210. Telephone number: 202-693-2954 (this is not a toll-free number). Individuals with hearing or speech impairments may access the telephone number above via TTY by calling the toll-free Federal Information Relay Service at 1-877-889-5627 (TTY/TDD). Fax: 202-693-3799. Email: wilson.greg1@dol.gov. To obtain a free copy of this ICR with applicable supporting documentation; including a description of the likely respondents, proposed frequency of response, and estimated total burden, please contact the person listed above.

SUPPLEMENTARY INFORMATION:

I. Background

The National Apprenticeship Act of 1937 (Act), section 50 (29 U.S.C. 50), authorizes and directs the Secretary of Labor (Secretary) “to formulate and promote the furtherance of labor standards necessary to safeguard the welfare of apprentices, to extend the application of such standards by encouraging the inclusion thereof in contracts of apprenticeship, to bring together employers and labor for the formulation of programs of apprenticeship, to cooperate with state agencies engaged in the formulation and promotion of standards of apprenticeship, and to cooperate with the Secretary of Education in accordance with Section 17 of Title 20.” Section 50a of the Act authorizes the Secretary to “publish information relating to existing and proposed labor standards of apprenticeship,” and to “appoint national advisory committees * * *” (29. U.S.C. 50a).

Title 29 CFR part 30 sets forth policies and procedures to promote the equality of opportunity in apprenticeship programs registered with the Department and recognized State Apprenticeship Agencies. These policies and procedures apply to recruitment and selection of apprentices, and to all conditions of employment and training during apprenticeship. The procedures provide for registering apprenticeship programs, for reviewing apprenticeship programs, for processing complaints, and for deregistering non-complying apprenticeship programs. This part also provides policies and procedures for continuation or withdrawal of recognition of state agencies which registered apprenticeship programs for Federal purposes.

The Complaint Form—Equal Employment Opportunity in Apprenticeship Programs, ETA Form 9039, is used by applicants and/or apprentices to file a complaint of discrimination with the Department. Since this form expires on May 31, 2016, ETA is seeking an extension of this form without revisions.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Agency: DOL-ETA.

Type of Review: Extension without changes of currently approved collection.

Title of Collection: Title 29 CFR part 30, Equal Employment Opportunity in Apprenticeship Programs.

Form: Complaint Form—Equal Employment Opportunity in Apprenticeship Programs, ETA Form 9039.

OMB Control Number: 1205-0224.

Affected Public: Applicants, Apprentices, Sponsors, State Apprenticeship Agencies, and Tribal Governments.

Estimated Number of Respondents: 19,277 (19,200 program sponsors + 27 State Apprenticeship Agencies + 50 Applicants/Apprentices).

Frequency: 1-time basis.

Total Estimated Annual Responses: 34,490.

Estimated Average Time per Response: 30 minutes for applicants/apprentices to complete and submit the complaint form.

Estimated Total Annual Burden Hours: 3,219 hours.

Total Estimated Annual Other Cost Burden: $0.00.

We will summarize and/or include in the request for OMB approval of the ICR, the comments received in response to this comment request; they will also become a matter of public record.

Portia Wu,
Assistant Secretary for Employment and Training, Labor.

[FR Doc. 2015-31712 Filed 12-16-15; 8:45 am]

BILLING CODE 4510-FR-P